DEPARTMENT OF TRANSPORTATION

Federal Aviation Administration

Public Notice for Waiver of Aeronautical Land-Use Assurance; Quad City International Airport, Moline, IL

AGENCY: Federal Aviation Administration, DOT.

ACTION: Notice of intent of waiver with respect to land.

SUMMARY: The Federal Aviation Administration (FAA) is considering a proposal to change a portion of airport land from aeronautical use to non-aeronautical use and to authorize the sale of the airport property. The proposal consists of Parcel OO-4, a 14.380-acre portion of Parcel OO (consisting of three Tracts: 1—3.787 acres, Tract 2—1.044 acres, and Tract 3—9.549 acres). Presently the land is vacant and used as open land for control of FAR Part 77 surfaces and compatible land use and is not needed for aeronautical use, as shown on the Airport Layout Plan. Parcel OO (147.50 acres) was acquired in 1967 with partial Federal participation. Of the original 147.50 acres, 57.0 acres were purchased with Federal participation. A portion of Tract 3 (approximately 3.4 acres) of the 57.0 acres purchased with Federal Participation is included in this proposal. It is the intent of the Metropolitan Airport Authority of Rock Island County (MAARIC) to sell Parcel OO-4 (14.380 acres) in fee to the Illinois Department of Transportation, Division of Highways, for the expansion of Milan Beltway. There are no impacts to the airport by allowing the MAARIC to dispose of the property. This notice announces that the FAA intends to authorize the disposal of the subject airport property at Quad City International Airport, Moline, IL. Approval does not constitute a commitment by the FAA to financially assist in disposal of the subject airport property nor a determination that all measures covered by the program are eligible for grant-in-aid funding from the FAA. The disposition of proceeds from the disposal of the airport property will be in accordance with FAA's Policy and Procedures Concerning the Use of Airport Revenue, published in the Federal Register on February 16, 1999.

In accordance with section 47107(h) of Title 49, United States Code, this notice is required to be published in the Federal Register 30 days before modifying the land-use assurance that requires the property to be used for an aeronautical purpose.

DATES: Comments must be received on or before February 9, 2004.

FOR FURTHER INFORMATION CONTACT: Richard Pur, Program Manager, 2300 East Devon Avenue, Des Plaines, IL 60018. Telephone Number 847-294-7527/FAX Number 847-294-7046. Documents reflecting this FAA action may be reviewed at this same location by appointment or at the Metropolitan Airport Authority of Rock Island County, Quad City International Airport, 2200 69th Avenue, Moline, IL 61265.

SUPPLEMENTARY INFORMATION: Following is a legal description of the property located in Moline, Rock Island County, Illinois, and described as follows:

Parcel OO-4 (Part of Original Parcel OO)

A parcel of land in part of the Southwest Quarter of the Northeast Quarter, part of the West Half of the Southwe st Quarter and part of the East 30 acres of the Southwest Quarter, all in Section 19, Township 17, North, Range 1 West of the Fourth Principal Meridian, Rock Island County, Illinois, consisting of three tracts, described as follows:

Tract 1

Commencing at the Southeast Corner of the Southeast Quarter of said Section 19; thence Northerly on the East Line of the Southwest Quarter of said Section 19, said line having a bearing of North 0 degree 54 minutes 19 seconds East, a distance of 1,055.82 feet to the North Line of the abandoned C.R.I. & P. Railway; thence Westerly on the North Line of said abandoned C.R.I. & P. Railway, said line having a bearing of North 85 degrees 15 minutes 36 seconds West, a distance of 617.86 feet to the Point of Beginning of the hereinafter described tract of land; thence Westerly on the North Line of said abandoned C.R.I. & P. Railway, said line having a bearing of North 85 degrees 15 minutes 36 seconds West, a distance of 232.93 feet to the Southeast Corner of the premises conveyed to Deere & Company, a Delaware Corporation from Paul A. Dugan, Trustee, by Corrective Warranty Deed recorded January 29, 1973 in Book 548, Page 48 as Document No. 733101 in the Rock Island County Recorder's Office; thence Northerly on the East Line of said premises conveyed to Deere & Company, a Delaware Corporation, said line having a bearing of North 1 degree 10 minutes 06 seconds East, a distance of 1,266.16 feet to the Southwest Corner of the premises conveyed to the Town of Black Hawk from Metropolitan Airport Authority of Rock Island County, Illinois, a Municipal Corporation by Warranty Deed recorded April 26, 1976 in Book 669, Page 25 as Document No. 784908 in said Recorders' Office; thence Easterly on the South Line of said premises conveyed to the Town of Black Hawk, said line having a bearing of South 89 degrees 31 minutes 49 seconds East, a distance of 120.00 feet; thence Northerly on the South Line of said premises conveyed to the Town of Black Hawk, said line having a bearing of North 1 degree 10 minutes 06 seconds East, a distance of 46.00 feet; thence Easterly on the South Line of said premises conveyed to the Town of Black Hawk, said line having a bearing of South 89 degrees 31 minutes 49 seconds East, a distance of 63.37 feet; thence Southwesterly on a line having a bearing of South 39 degrees 40 minutes 03 seconds West, a distance of 124.60 feet; thence Southerly on a line having a bearing of South 0 degree 16 minutes 43 seconds East, a distance of 974.99 feet; thence Southeasterly on a line having a bearing of South 10 degrees 23 minutes 47 seconds East, a distance of 140.31 feet; thence Southeasterly on a line having a bearing of South 30 degrees 37 minutes 50 seconds East, a distance of 140.31 feet to the Point of Beginning, containing 3.787 acres, more or less.

Tract 2

Commencing at the Southwest Corner of the Southeast Quarter of said Section 19; thence Northerly on the West Line of the Southeast Quarter of said Section 19, said line having a bearing of North 2 degree 54 minutes 19 seconds East, a distance of 425.77 feet to the Point of Beginning of the hereinafter described tract of land; thence Northerly on the West Line of said Southeast Quarter of Section 19, said line having a bearing of North 0 degree 54 minutes 19 seconds East, a distance of 386.72 feet; thence Southeasterly on a line having a bearing of South 70 degrees 25 minutes 52 seconds East, a distance of 57.54 feet; thence Southeasterly on a line having a bearing of South 35 degrees 53 minutes 25 seconds East, a distance of 62.18 feet; thence Southerly on a line having a bearing of South 1 degree 20 minutes 58 seconds East, a distance of 107.91 feet; thence Southeasterly on a line having a bearing of South 15 degrees 47 minutes 30 seconds East, a distance of 42.40 feet; thence Southeasterly on a line having a bearing of South 57 degrees 12 minutes 20 seconds East, a distance of 77.84 feet; thence Southerly on a line having a bearing of South 1 degree 20 minutes 58 seconds East, a distance of 85.00 feet; thence Southwesterly on a line having a bearing of South 52 degrees 08 minutes 57 seconds West, a distance of 62.20 feet; thence Westerly on a line having a bearing of South 88 degrees 39 minutes 02 seconds West, a distance of 129.22 feet to the Point of Beginning, containing 1.044 acre, more or less.

Tract 3

Commencing at the Southwest Corner of the Southeast Quarter of said Section 19; thence Northerly on the West Line of the Southeast Quarter of said Section 19, said line having a bearing of North 0 degree 54 minutes 19 seconds East, a distance of 1,169.41 feet to the East Right-of-Way Line of C.H. Route 78; thence Northeasterly on said East Right-of-Way Line of C.H. Route 78, said line being a non-tangential curve concave to the Northwest, a distance of 1,076.38 feet, having a radius of 5,829.58, a central angle of 10 degrees 34 minutes 45 seconds and the long chord bears North 10 degrees 39 minutes 31 seconds East, a chord distance of 1,074.86 feet to the Point of Beginning of the hereinafter described tract of land; thence Northeasterly on said East Right-of-Way Line of C.H. Route 78, said line being a non-tangential curve concave to the Northwest, a distance of 467.52 feet, having a radius of 5,829.58 feet, a central angle of 4 degrees 35 minutes 42 seconds and the long chord bears North 3 degrees 04 minutes 17 seconds East, a chord distance of 467.39 feet to the Point of Tangency; thence Northerly on said East Right-of-Way Line C.H. Route 78, said line having a bearing of North 0 degree 46 minutes 26 seconds East, a distance of 135.50 feet; thence Northerly on said East Right-of-Way Line of C.H. Route 78, said line having a bearing of North 9 degrees 42 minutes 16 seconds East, a distance of 708.59 feet; thence Northerly on said East Right-of-Way Line of C.H. Route 78, said line having a bearing of North 0 degree 46 minutes 26 seconds East, a distance of 349.21 feet to the South Right-of-Way Line of S.A. Route 32 (Airport Road); thence Easterly on said South Right-of-Way Line of S.A. Route 32 (Airport Road), said line having a bearing of South 89 degrees 28 minutes 33 seconds East, a distance of 1,010.06 feet to the East Line of the Southwest Quarter of Northeast Quarter of said Section 19; thence Southerly on the East Line of the Southwest Quarter of the Northeast Quarter of said Section 19, said line having a bearing of South 0 degree 46 minutes 17 seconds West, a distance of 35.00 feet; thence Westerly on a line having a bearing of North 89 degrees 28 minutes 33 seconds West, a distance of 180.47 feet; thence Westerly on a line having a bearing of North 87 degrees 28 minutes 17 seconds West, a distance of 200.12 feet; thence Westerly on a line having a bearing of North 89 degrees 28 minutes 33 seconds West, a distance of 132.21 feet; thence Southerly on a line having a bearing of South 0 degree 31 minutes 27 seconds West, a distance of 469.66 feet; thence Southwesterly on a line having a bearing of South 33 degrees 15 minutes 12 seconds West, a distance of 235.76 feet; thence Southwesterly on a line having a bearing of South 66 degrees 41 minutes 03 seconds West, a distance of 353.96 feet; thence Southwesterly on a line having a bearing of South 56 degrees 42 minutes 16 seconds West, a distance of 126.64 feet; thence Southwesterly on a line having a bearing of South 17 degrees 39 minutes 03 seconds West, a distance of 130.02 feet; thence Southerly on a line having a bearing of South 0 degree 46 minutes 26 seconds West, a distance of 150.50 feet; thence Southerly on a line having a bearing of South 1 degree 35 minutes 47 seconds West, a distance of 169.64 feet; thence Southerly on a line having a bearing of South 7 degrees 09 minutes 48 seconds West, a distance of 299.25 feet to the Point of Beginning, containing 9.549 acres, more or less.

The above described three tracts of land together are designated Parcel OO-4, said three tracts of land together contain 14.380 acres, more or less.

For the purpose of this description the West Line of the Southeast Quarter of said Section 19 has been assigned the bearing of North 0 degree 54 minutes 19 seconds East.

Issued in Des Plaines, Illinois, on December 1, 2003.
Philip M. Smithmeyer,
Manager, Chicago Airports District Office, FAA, Great Lakes Region.

[FR Doc. 04-499 Filed 1-8-04; 8:45 am]

BILLING CODE 4910-13-M